DEPARTMENT OF TREASURY

Internal Revenue Service

26 CFR Part 602

OMB Control Numbers Under the Paperwork Reduction Act

CFR Correction

In Title 26 of the Code of Federal Regulations, parts 600 to end, revised as of April 1, 2001, on page 155, § 602.101 is amended by removing the entry for “31.6051-1T” following the entry for “1.6050S-2T”.

[FR Doc. 01-55516 Filed 8-17-01; 8:45 am]

BILLING CODE 1505-01-D